ENVIRONMENTAL PROTECTION AGENCY

[EPA-HQ-OLEM-2024-0489; 12346-01-OLEM]

Agency Information Collection Activities; Proposed Information Collection Request; Comment Request; Brownfields Competitive Grants and Noncompetitive Funding Programs

AGENCY: Environmental Protection Agency (EPA).

ACTION: Notice.

SUMMARY: The Environmental Protection Agency (EPA) is planning to submit an information collection request (ICR), Brownfields Competitive Grants and Noncompetitive Funding Programs (EPA ICR Number 7789.01, OMB Control Number 2050-NEW) to the Office of Management and Budget (OMB) for review and approval in accordance with the Paperwork Reduction Act. Before doing so, EPA is soliciting public comments on specific aspects of the proposed information collection as described below. This is a request for approval of a new collection. This notice allows for 60 days for public comments.

DATES: Comments must be submitted on or before December 31, 2024.

ADDRESSES: Submit your comments, referencing Docket ID Number EPA-HQ-OLEM-2024-0489, to EPA online using www.regulations.gov (our preferred method), by email to barnes.christina@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Christina Barnes, Office of Brownfields and Land Revitalization, (5105T), Environmental Protection Agency, 1200 Pennsylvania Ave. NW, Washington, DC 20460; telephone number: (202) 566-0943; email address: barnes.christina@epa.gov.

SUPPLEMENTARY INFORMATION: This is a request for approval of a new collection. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: This ICR describes the burden of activities for the collection of information from those organizations and entities that apply for cooperative agreements from EPA under the authority of the Comprehensive Environmental Response, Compensation, and Liability Act (CERCLA) as amended by the Brownfields Utilization, Investment, and Local Development (BUILD) Act (Pub. L. 115-141). Subtitle A of CERCLA, as amended, authorizes EPA to award grants or cooperative agreements to states, Tribal Nations, local governments, and other eligible entities to support the assessment and cleanup of brownfields properties, and subtitle C authorizes a noncompetitive $50 million program to establish and enhance state and Tribal response programs. The authority for these financial assistance programs is codified at CERCLA 104(k) and CERCLA 128(a) respectively. Congress appropriates specific amounts of funding for both programs in EPA's State and Tribal Assistance Grant account.

With this ICR, EPA's Office of Brownfields and Land Revitalization (OBLR) seeks authorization to collect information from grant applicants and noncompetitive funding requesters using several standard instruments (templates) that will streamline the data collection effort and improve the quality, efficiency, and fairness of the competitions and allocations. EPA estimates that all respondents who voluntarily respond to this information collection by electing to participate in the Brownfields Program have determined that the expected benefits of participation outweigh any burden associated with preparing the response.

This new ICR provides the burden estimate for activities associated with optional applicant use instruments, and EPA review of the submissions; and seeks approval for seven standard application/request templates. EPA's goal in providing these templates is to provide an example for applicants and requesters of how the information in an application or funding request can be presented. Applicants and requesters who choose not to use the sample formats for providing information will not be punished. However, when the information in an application or funding request is presented using a standard format, EPA staff can review applications and funding requests more efficiently.

Form Numbers: OMB Control Number: 2050-NEW; EPA ICR Number: 7789.01.

Respondents/affected entities: State/local/tribal governments; Non-Profits.

Respondent's obligation to respond: required to obtain or retain a benefit (2 CFR part 1500).

Estimated number of respondents: 1,215 (total).

Frequency of response: Annually.

Total estimated burden: 7,865 hours (per year). Burden is defined at 5 CFR 1320.03(b).

Total estimated cost: $1,060,540.53 (per year), which includes $0 annualized capital or operation & maintenance costs.

Changes in the Estimates: There is no increase or decrease of hours in the total estimated respondent burden because this is a new ICR being submitted to OMB.

Dated: October 28, 2024.
Brian Thompson,
Acting Deputy Director, Office of Brownfields and Land Revitalization.

[FR Doc. 2024-25417 Filed 10-31-24; 8:45 am]

BILLING CODE 6560-50-P